SECURITIES AND EXCHANGE COMMISSION

[Release No. 34-73180; File No. SR-NASDAQ-2012-129]

Self-Regulatory Organizations; The NASDAQ Stock Market LLC; Order Granting an Extension to Limited Exemption From Rule 612(c) of Regulation NMS in Connection With the Exchange's Retail Price Improvement Program Until December 31, 2014

September 23, 2014.

On February 15, 2013, the Commission issued an order pursuant to its authority under Rule 612(c) of Regulation NMS (“Sub-Penny Rule”) ¹ that granted the NASDAQ Stock Market LLC (“NASDAQ”) a limited exemption from the Sub-Penny Rule in connection with the operation of the Exchange's Retail Price Improvement Program (“Program”).² The limited exemptions were granted concurrently with the Commission's approval of the Exchange's proposals to adopt the Program for a one-year pilot term.³ The exemption was granted coterminous with the effectiveness of the pilot Program; both the pilot Program and the exemption are scheduled to expire on September 30, 2014.

¹ 17 CFR 242.612(c).

² See Securities Exchange Act Release No. 68937 (February 15, 2013), 78 FR 12397 (February 22, 2013) (SR-NASDAQ-2012-129) (“RPI Approval Order”).

³ See id.

The Exchange now seeks to extend the exemption until December 31, 2014.⁴ The Exchange's request was made in conjunction with an immediately effective filing that extends the operation of the Program until December 31, 2014.⁵ In its request to extend the exemption, the Exchange notes that given the gradual implementation of the Program and the preliminary participation and results, extending the exemption would provide additional opportunities for greater participation and assessment of the results. Accordingly, the Exchange has asked for additional time to allow it and the Commission to analyze data concerning the Program, which the Exchange committed to provide to the Commission.⁶ For this reason and the reasons stated in the RPI Approval Order originally granting the limited exemption, the Commission finds that extending the exemption, pursuant to its authority under Rule 612(c) of Regulation NMS, is appropriate in the public interest and consistent with the protection of investors.

⁴ See Letter from Jeffrey S. Davis, Vice President & Deputy General Counsel, NASDAQ to Elizabeth M. Murphy, Secretary, Commission dated September 11, 2014.

⁵ See SR-NASDAQ-2014-094.

⁶ See RPI Approval Order, supra note 2, 78 FR at 12399.

Therefore, it is hereby ordered that, pursuant to Rule 612(c) of Regulation NMS, the Exchange is granted an extension of the limited exemption from Rule 612 of Regulation NMS that allows it to accept and rank orders priced equal to or greater than $1.00 per share in increments of $0.001, in connection with the operation of its Retail Price Improvement Program, until December 31, 2014.

The limited and temporary exemption extended by this Order is subject to modification or revocation if at any time the Commission determines that such action is necessary or appropriate in furtherance of the purposes of the Exchange Act. Responsibility for compliance with any applicable provisions of the federal securities laws must rest with the persons relying on the exemption that are the subject of this Order.

For the Commission, by the Division of Trading and Markets, pursuant to delegated authority.⁷
⁷ 17 CFR 200.30-3(a)(83).
Kevin M. O'Neill,
Deputy Secretary.

[FR Doc. 2014-22992 Filed 9-25-14; 8:45 am]

BILLING CODE 8011-01-P